SMALL BUSINESS ADMINISTRATION

Public Federal Regulatory Enforcement Fairness Hearing; Region IV Regulatory Fairness Board

The U.S. Small Business Administration (SBA) Region IV Regulatory Fairness Board and the SBA Office of the National Ombudsman will hold a public hearing on Wednesday, January 17, 2007, at 10 a.m. The meeting will take place at BellSouth Building, Economic Development Theatre, (Mezzanine Level), 333 Commerce Street, Nashville, TN 37201. The purpose of the meeting is to receive comments and testimony from small business owners, small government entities, and small non-profit organizations concerning regulatory enforcement and compliance actions taken by Federal agencies.

Anyone wishing to attend or to make a presentation must contact Jose Mendez, in writing or by fax, in order to be placed on the agenda. Jose Mendez, Agency Event Coordinator, SBA, 409 3rd Street, SW., Washington, DC 20416, phone (202) 205-6178 and fax (202) 401-2707, e-mail: Jose.mendez@sba.gov.

For more information, see our Web site at http://www.sba.gov/ombudsman.

Matthew Teague,
Committee Management Officer.

[FR Doc. E7-401 Filed 1-12-07; 8:45 am]

BILLING CODE 8025-01-P